DEPARTMENT OF HEALTH AND HUMAN SERVICES

Administration for Children and Families

Proposed Information Collection Activity; Medical Health Assessment Form and Public Health Investigation Forms, Tuberculosis and Non-Tuberculosis Illness (Office of Management and Budget 0970-0509)

AGENCY: Office of Refugee Resettlement, Administration for Children and Families, United States Department of Health and Human Services.

ACTION: Request for public comments.

SUMMARY: The Administration for Children and Families (ACF) is requesting a 3-year extension of the Mental Health Assessment Form (formerly the Health Assessment Form) and Public Health Investigation Forms, Active Tuberculosis (TB) and Non-TB Illness (Office of Management and Budget (OMB) #0970-0509, expiration December 31, 2023. Changes are proposed to the currently approved forms.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ACF Office of Refugee Resettlement (ORR) places unaccompanied children in their custody in care provider facilities until unification with a qualified sponsor. Care provider facilities are required to provide children with mental health services and health care. Children meet with onsite mental health counselors on a regular basis. If a child is identified as potentially having a more serious mental health condition, they are referred to a psychiatrist, psychiatric nurse practitioner or physician's assistant, licensed psychologist, or any other community-based licensed mental health provider (e.g., social worker).

The Mental Health Assessment form is to be used as a worksheet for mental health specialists to compile information that would otherwise have been collected during the evaluation. Once completed, the form will be given to care provider program staff for data entry into ORR's secure, electronic data repository. Data will be used to monitor the health of unaccompanied children while in ORR care and for case management of any identified conditions.

Children may be exposed to nationally reportable infectious diseases during the journey to the U.S., while in the custody of the Customs and Border Protection after crossing the border, or during their stay in ORR custody. Public health interventions such as quarantine, vaccination or lab testing may be initiated to reduce possible disease transmission. Following an exposure, children will be assessed onsite by care provider program staff and if found to be symptomatic, referred to a healthcare provider for evaluation.

The Public Health Investigation Forms are to be used as worksheets by care provide program staff to record their findings when an exposure has been reported. Once completed, they will enter the data into ORR's secure data repository. Data will be used to track disease transmission and health outcomes of children in ORR care.

ORR has repurposed the former Health Assessment Form from a medical and mental health information collection to a mental health collection only, and renamed it the Mental Health Assessment Form. ORR has incorporated other changes to the forms to streamline the flow of data collection, clarify the intent of certain fields, improve data quality, and ensure alignment with ORR program guidance. In addition, ORR has written instructional letters for the Medical Health Assessment Form to explain the purpose of the forms and provide general guidance on completion to healthcare providers.

Respondents: Mental health professionals (psychiatrists, psychiatric nurse practitioners or physician's assistants, licensed psychologist or any other community based licensed mental health provider (e.g., social worker)), care provider program staff.

Annual Burden Estimates:

Estimated Opportunity Time for Respondents
Instrument | Respondent | Total number of respondents | Total number of responses per respondent | Average burden hours per response | Total burden hours | Annual burden hours
Mental Health Assessment Form | Mental health professionals | 500 | 6.8 | 0.18 | 1,836 | 612
Public Health Investigation Form: Active TB | Care provider program staff | 500 | 1 | 0.08 | 1,200 | 400
Public Health Investigation Form: Non-TB Illness |  | 500 | 200 | 0.08 | 24,000 | 8,000
Estimated Total Annual Burden Hours |  |  |  |  |  | 9,012

Estimated Recordkeeping Time
Instrument | Respondent | Total number of respondents | Total number of responses per respondent | Average burden hours per response | Total burden hours | Annual burden hours
Mental Health Assessment Form | Care provider program staff | 500 | 6.8 | 0.21 | 2,142 | 714
Public Health Investigation Form: Active TB |  | 500 | 1 | 0.08 | 1200 | 400
Public Health Investigation Form: Non-TB Illness |  | 500 | 200 | 0.08 | 24,000 | 8,000
Estimated Total Annual Burden Hours |  |  |  |  |  | 9,114

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279: Exhibit 1, part A.2 of the Flores Settlement Agreement (Jenny Lisette Flores, et al., v. Janet Reno, Attorney General of the United States, et al., Case No. CV 85-4544-RJK [C.D. Cal. 1996])

Mary B. Jones,
ACF/OPRE Certifying Officer.

[FR Doc. 2023-11627 Filed 5-31-23; 8:45 am]

BILLING CODE 4184-45-P